DEPARTMENT OF ENERGY

High Energy Physics Advisory Panel

AGENCY: Office of Science, Department of Energy.

ACTION: Notice of Intent to Renew.

SUMMARY: Pursuant to Section 14(a)(2)(A) of the Federal Advisory Committee Act, (Pub. L. 92-463), and in accordance with Title 41 of the Code of Federal Regulations, Section 102.3.65(a), and following consultation with the Committee Management Secretariat, General Services Administration, notice is hereby given that the High Energy Physics Advisory Panel will be renewed for a two-year period beginning on August 12, 2013.

The Panel will provide advice and recommendations to the Director, Office of Science (DOE), and the Assistant Director, Mathematical & Physical Sciences Directorate (NSF), on long-range planning and priorities in the national high-energy physics program.

Additionally, the renewal of the HEPAP has been determined to be essential to conduct business of the Department of Energy and to be in the public interest in connection with the performance of duties imposed upon the Department of Energy and the National Science Foundation and, by law and agreement. The Panel will continue to operate in accordance with the provisions of the Federal Advisory Committee Act, adhering to the rules and regulations in implementation of that Act.

FOR FURTHER INFORMATION CONTACT: Mr. John Kogut at (301) 903-1298.

Issued in Washington DC on August 12, 2013.
LaTanya R. Butler,
Deputy Committee Management Officer.

[FR Doc. 2013-20123 Filed 8-16-13; 8:45 am]

BILLING CODE 6450-01-P